ENVIRONMENTAL PROTECTION AGENCY

[FRL-6538-9]

Environmental Protection Agency and International City/County Management Association Superfund Relocation Policy Meeting

AGENCY: Environmental Protection Agency (EPA) and International City/County Management Association (ICMA).

ACTION: Notice of public meeting.

SUMMARY: This document advises the public that the Environmental Protection Agency and the International City/County Management Association will hold a public meeting to discuss comments received on the “Interim Policy on the Use of Permanent Relocations as Part of Superfund Remedial Actions.”

DATES: The meeting dates are Thursday, March 2, 2000, 8:30 a.m. to 5:00 p.m. and Friday, March 3, 2000, 8:00 a.m. to 4:00 p.m. (EST).

ADDRESSES: The meeting will be held at International City/County Management Association, 777 North Capitol St., NE Washington, D.C. 20002-4201 in ICMA Training Center A-1st Floor.

SUPPLEMENTARY INFORMATION: EPA issued the “Interim Policy on the Use of Permanent Relocations as Part of Superfund Remedial Actions” on June 30, 1999, and published a notice of availability with request for comment on the policy in the Federal Register on July 8, 1999 (64 FR 37012).

The objectives of this meeting will be to provide EPA and ICMA with substantive comments and feedback on the “Interim Policy on the Use of Permanent Relocations as Part of Superfund Remedial Actions,” to gain stakeholder input on issues arising during implementation of a relocation and to engage a diverse group of stakeholders in a dialogue on the characteristics of a successful relocation.

Members of the public may request copies of the “Interim Policy on the Use of Permanent Relocations as Part of Superfund Remedial Actions” by postal mail from Docket Coordinator, Headquarters, U.S. EPA, CERCLA Docket Office, (Mail Code 5201G), Ariel Rios Building, 1200 Pennsylvania Avenue, NW, Washington, D.C. 20460, 703-603-9232, or (800) 424-9346. The Interim Policy is also available on the Internet at http://www.epa.gov/oerrpage/superfund/tools/topics/relocation.

The meeting is open to the public and written comments will be accepted up until the time of the meeting. Written comments may be directed to the above address.

FOR FURTHER INFORMATION CONTACT: Pat Carey, U.S. EPA, 1200 Pennsylvania Avenue, NW (MC5204G), Washington, D.C. 20460, phone: (703) 603-8772, facsimile: (703) 603-9100 or email: carey.pat@epa.gov.

Dated: February 10, 2000.
Timothy Fields, Jr.,
Assistant Administrator, Office of Solid Waste and Emergency Response.

[FR Doc. 00-3851 Filed 2-16-00; 8:45 am]

BILLING CODE 6560-50-P